NUCLEAR REGULATORY COMMISSION

[NRC-2010-0302]

Evaluation of the Groundwater Task Force Report: Public Meeting

AGENCY: Nuclear Regulatory Commission.

ACTION: Notice of public meeting; solicitation of public comments.

SUMMARY: In response to incidents involving radioactive contamination of groundwater wells and soils at nuclear power plants, the Nuclear Regulatory Commission (NRC) convened a Groundwater Task Force (GTF) in March 2010 to determine whether past, current, and planned actions should be augmented. The GTF, in its final report dated June 2010, determined that the NRC is meeting its mission of protecting public health, safety, and the environment. However, in view of stakeholder concerns, the GTF recommended that the NRC consider changes to its oversight of licensed material outside of its designed confinement. The NRC established a senior management review group to evaluate the GTF report, identify next steps, and make recommendations to the Commission about potential policy changes. The NRC will host a meeting with the public to discuss and solicit input on the potential policy changes being considered. The meeting will serve as a forum for members of the public to provide oral comments. The NRC is also requesting written comments on the potential policy issues, particularly for those members of the public unable to attend the meeting. The potential policy issues can be found in Section C, “Topics for Discussion: Potential Policy Issues,” in the SUPPLEMENTARY INFORMATION section of this notice.

DATES: Public Meeting Date: Monday, October 4, 2010, from 9 a.m. to 5 p.m.

Comment Dates: For individuals who wish to provide written comments on the potential policy issues, the comments are requested by October 15, 2010. Comments received after this date will be considered if it is practical to do so, but the NRC is able to assure consideration only for comments received on or before this date.

ADDRESSES: The public meeting will be held in the Commission Hearing Room at the NRC Headquarters building, 11555 Rockville Pike, Rockville, Maryland 20852. The NRC Headquarters building is located across the street from the White Flint metro station. For most attendees, the metro system is likely the most convenient mode of transportation, as there is very limited parking available. Please also allow time to register with building security. Individuals unable to travel to the NRC Headquarters building may participate by teleconference or observe by live Webcast. Please contact the individual listed below to get details for participating in this manner.

You may submit comments by any one of the following methods. Please include Docket ID NRC-2010-0302 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0302. Address questions about NRC dockets to Carol Gallagher 301-492-3668; e-mail Carol.Gallagher@nrc.gov.

Mail comments to: Cindy Bladey, Chief, Rules, Announcements and Directives Branch (RADB), Division of Administrative Services, Office of Administration, Mail Stop: TWB-05-B01M, U.S. Nuclear Regulatory Commission, Washington, DC 20555-0001, or by fax to RADB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The potential policy issues are available electronically under ADAMS Accession Number ML102460172.

Federal Rulemaking Web site: Public comments and supporting materials related to this notice can be found at http://www.regulations.gov by searching on Docket ID: NRC-2010-0302.

FOR FURTHER INFORMATION CONTACT: Barry Miller, (301) 415-4117, e-mail address Barry.Miller@nrc.gov. Public meeting attendees are requested to pre-register with the meeting contact by September 30, 2010.

SUPPLEMENTARY INFORMATION:

A. Background and Purpose of the Public Meeting

The NRC convened the GTF in March 2010 (ADAMS Accession No. ML100640188) to evaluate NRC actions taken in response to recent releases of tritium into groundwater by nuclear facilities, reevaluate the recommendations made in the Liquid Radioactive Release Lessons Learned Task Force Final Report dated September 1, 2006 (ADAMS Accession No. ML062650312), and review the actions taken in SECY-09-0174 (Staff Progress in Evaluation of Buried Piping at Nuclear Reactor Facilities, ADAMS Accession No. ML093160004). The purpose of the review was to determine whether the actions taken in response to recent events need to be augmented.

The GTF completed its work in June 2010, and provided the final report to the NRC Executive Director for Operations (EDO) (ADAMS Accession No. ML101680435). The GTF final report identified four major themes that provided focus for the report's conclusions: Theme 1—Reassess NRC's Regulatory Framework for Groundwater Protection, Theme 2—Maintain Barriers as Designed to Confine Licensed Material, Theme 3—Create More Reliable NRC Response, and Theme 4—Strengthen Trust.

As a result of this report, the EDO tasked a senior management review group to evaluate the report's conclusions and recommendations and identify actions that can be taken now, in addition to issues of policy that should be raised for Commission consideration. The senior management review group has completed their evaluation and compiled a list of potential policy issues for consideration. The purpose of this meeting is to receive input on these potential policy issues from a diverse group of public and industry stakeholders to ensure we have identified and are considering the right issues on which to focus our attention as we move forward. The potential policy issues can be found in Section C, Topics for Discussion: Potential Policy Issues, of this notice. Many of the issues listed in Section C contain specific references to the GTF report, with the references provided in parentheses following the specific issue.

B. Public Meeting Agenda

A meeting notice and detailed agenda are available on the NRC public meeting schedule Web site http://www.nrc.gov/public-involve/public-meetings/index.cfm. The meeting will take place from 9 a.m.-5 p.m. and consist of four sessions with a short break in between each one. Each session will correspond to one of the four themes identified in the GTF final report: Theme 1, Reassess NRC's Regulatory Framework for Groundwater Protection; Theme 2, Maintain Barriers as Designed to Confine Licensed Material; Theme 3, Create More Reliable NRC Response; and Theme 4, Strengthen Trust. Each session will have a panel consisting of public and industry stakeholders, with the aim of representing an array of perspectives. Each panelist will give an approximately ten-minute presentation summarizing their views on the policy issues covered by their session topic. These presentations will be followed by a facilitated open discussion with the general attendees, thereby providing an opportunity for any attendee to provide input.

C. Topics for Discussion: Potential Policy Issues

Provided below are the potential policy issues identified by the senior management review group from the GTF final report. The parenthetical notation following many of the potential policy issues is a reference to a conclusion in the GTF final report. For example, C.3.2 is referencing conclusion C.3.2 in Appendix C of the report.

Theme 1: Reassess NRC's Regulatory Framework for Groundwater Protection

Should NRC's programs be modified to ensure harmonization of the approaches we have taken to groundwater protection that are applied to different licensees under NRC regulations? (C.3.2)

How should the NRC's programs accommodate or encourage industry initiatives that go beyond NRC requirements?

• E.g., for reactors, is the industry's voluntary initiative on groundwater protection sufficiently comprehensive? Should it be taken into account in NRC's regulatory framework? (B.3.4)

How should NRC's programs address protection of the environment?

• Should requirements be promulgated to require prompt remediation of unintended releases of radioactive liquids? (C.3.3)

• Should the NRC consider modifying Part 20 to address those portions of International Commission on Radiological Protection (ICRP) 103 related to environmental protection? (E.3.4)

Should changes be made to the radiological effluent performance indicator in the Reactor Oversight Process to make it more reflective of performance in the area of plant releases, both planned and unplanned? Should the performance indicator take into account public confidence in addition to the current risk-informed approach to radiation protection that verifies the effluent release program performance? (B.3.1)

Should a policy statement be developed based upon NRC's existing regulations and guidance to address: (1) Protection of the environment within NRC's regulatory framework, (2) NRC's expectations of licensees, (3) the relationship to other regulatory schemes, and (4) NRC's desire to work cooperatively with other Federal agencies and States in protecting the environment?

Should NRC's regulatory framework be informed by experience or guidance developed or applied by the International Atomic Energy Agency, the international community or by other U.S. agencies, e.g., Department of Energy directives (DOE STD 1153) and activities?

Theme 2: Maintain Barriers as Designed To Confine Licensed Material

Should NRC's programs be modified to ensure that systems and components better contain radioactive liquids and gases?

• Are additional requirements appropriate for the design, operation and maintenance of systems and components that contain radioactive liquids and gases? (C.3.1)

• Should a more quantitative definition of the “As Low As Is Reasonably Achievable” (ALARA) concept be adopted with respect to leakage of radioactive liquids and gases?

• Is it feasible to apply the ALARA concept in 10 CFR 50.36a to “unmonitored releases” and to restricted areas as well as unrestricted areas?

• How could the principles in 10 CFR 20.1406 be applied to operating reactors?

• Do the existing General Design Criteria (GDC) (e.g., GDC 60 and 64) in 10 CFR part 50, appendix A, provide a basis to require new licensee programs with respect to leakage of radioactive liquids and gases?

Theme 3: Create More Reliable NRC Response

Should NRC's programs be modified to ensure greater consistency when addressing low risk, high public interest/confidence issues?

• Should NRC's oversight programs be modified to include more specific guidance on responding to reported incidents where risk is low but there is high stakeholder interest? Should this guidance address the follow up and disposition of a licensee's immediate actions, extent of condition, root cause, corrective action, and communication with the stakeholders? (A.3.1, A.3.2, B.3.3)

How can the NRC improve communications and support to other regulatory agencies, such as the U.S. Environmental Protection Agency and the States, in understanding and exercising respective roles and responsibilities related to groundwater protection? (D.3.3)

Theme 4: Strengthen Trust

How can the NRC increase confidence in its actions and communications related to groundwater protection?

What role could third party verification or assessment play in responding to groundwater protection? (D.3.3)

What would be the benefit of using the International Nuclear Event Scale for communicating the safety significance of events at Levels 0 or 1 that attract high domestic or international public interest? Would this approach lead to confusion on the significance of the issue?

How can greater clarity be given to the interplay between NRC regulations and existing State and other Federal regulations with respect to the objectives and level of protection provided by adherence to the regulations?

D. Conduct of the Meeting.

This is a Category 3 Meeting. The public is invited to participate in this meeting by providing comments and asking questions throughout the meeting. The NRC's Policy Statement, “Enhancing Public Participation on NRC Meetings,” (May 28, 2002; 67 FR 36920), applies to this meeting. The policy contains information regarding visitors and security. The NRC provides reasonable accommodation to individuals with disabilities where appropriate. If a member of the public needs a reasonable accommodation to participate in the meeting, or needs the meeting notice or the transcript or other information from the meeting in another format (e.g., Braille, large print), please notify the NRC's meeting contacts. Determinations on requests for reasonable accommodations will be made on a case-by-case basis.

Dated at Rockville, Maryland, this 16th day of September 2010.
For the Nuclear Regulatory Commission.
Michael R. Johnson,
Deputy Executive Director for Reactor and Preparedness Programs, Acting Office of the Executive Director for Operations.

[FR Doc. 2010-23877 Filed 9-22-10; 8:45 am]

BILLING CODE 7590-01-P